DEPARTMENT OF ENERGY

Federal Energy Regulatory Commission

[Project No. 4026-053]

Androscoggin Reservoir Company; Notice of Intent To File License Application, Filing of Pre-Application Document (PAD), Commencement of Pre-Filing Process, and Scoping; Waiving Parts of the Pre-Filing Process; Request for Comments on the PAD and Scoping Document, and Identification of Issues and Associated Study Requests

a. Type of Filing: Notice of Intent to File License Application for a New License and Commencing Pre-filing Process.

b. Project No.: 4026-053.

c. Dated Filed: March 30, 2020.

d. Submitted By: Androscoggin Reservoir Company (ARCO).

e. Name of Project: Aziscohos Hydroelectric Project.

f. Location: On the Magalloway River in Oxford County, Maine. The project does not occupy any federal land.

g. Filed Pursuant to: 18 CFR part 5 of the Commission's Regulations.

h. Potential Applicant Contact: Randy Dorman, Brookfield Renewable, 150 Main Street, Lewiston, ME 04240; phone at (207) 755-5605, or email at Randy.Dorman@brookfieldrenewable.com.

i. FERC Contact: Dr. Nicholas Palso at (202) 502-8854 or email at nicholas.palso@ferc.gov.

j. Cooperating agencies: Federal, state, local, and tribal agencies with jurisdiction and/or special expertise with respect to environmental issues that wish to cooperate in the preparation of the environmental document should follow the instructions for filing such requests described in item o below. Cooperating agencies should note the Commission's policy that agencies that cooperate in the preparation of the environmental document cannot also intervene. See 94 FERC 61,076 (2001).

k. With this notice, we are initiating informal consultation with: (a) The U.S. Fish and Wildlife Service and/or NOAA Fisheries under section 7 of the Endangered Species Act and the joint agency regulations thereunder at 50 CFR part 402; and (b) the Maine State Historic Preservation Officer (SHPO) as required by section 106 of the National Historic Preservation Act and the implementing regulations of the Advisory Council on Historic Preservation at 36 CFR 800.2.

l. With this notice, we are designating ARCO as the Commission's non-federal representative for carrying out informal consultation pursuant to section 7 of the Endangered Species Act and section 106 of the National Historic Preservation Act.

m. ARCO filed with the Commission a Pre-Application Document (PAD; including a proposed process plan and schedule), pursuant to 18 CFR 5.6 of the Commission's regulations.

n. In addition to publishing the full text of this document in the Federal Register, the Commission provides all interested persons an opportunity to view and/or print the contents via the internet through the Commission's Home Page (http://www.ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCONlineSupport@ferc.gov or call toll-free, (866) 208-3676 or TYY, (202) 502-8659.

Register online at http://www.ferc.gov/docs-filing/esubscription.asp to be notified via email of new filings and issuances related to this or other pending projects. For assistance, please contact FERC Online Support.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov. In lieu of electronic filing, please send a paper copy to: Secretary, Federal Energy Regulatory Commission, 888 First Street NE, Washington, DC 20426. The first page of any filing should include docket number P-4026-053.

All filings with the Commission must bear the appropriate heading: Comments on Pre-Application Document, Study Requests, Comments on Scoping Document 1, Request for Cooperating Agency Status, or Communications to and from Commission Staff. Any individual or entity interested in submitting study requests, commenting on the PAD or SD1, and any agency requesting cooperating status must do so within 60 days of the date of this notice.

p. Although our current intent is to prepare an environmental assessment (EA), there is the possibility that an Environmental Impact Statement (EIS) will be required. The scoping process will satisfy the NEPA scoping requirements, irrespective of whether an EA or EIS is issued by the Commission.

Scoping Meetings and Environmental Site Review

Due to the proclamation declaring a National Emergency concerning the Novel Coronavirus Disease (COVID-19), issued by the President on March 13, 2020, we are waiving section 5.8(b)(viii) of the Commission's regulations and do not intend to conduct a public scoping meeting or site visit in this case. Instead, we are soliciting written comments, recommendations, and information on the SD1. Any individual or entity interested in submitting scoping comments must do so by the date specified in item o. SD1, which outlines the subject areas to be addressed in the environmental document, was mailed to the individuals and entities on the Commission's mailing list. Copies of SD1 may be viewed on the web at http://www.ferc.gov, using the eLibrary link. Follow the directions for accessing information in paragraph n. Based on all written comments, a Scoping Document 2 (SD2) may be issued. SD2 may include a revised process plan and schedule, as well as a list of issues, identified through the scoping process.

We may conduct the site visit, if needed, later in the process, such as in conjunction with the study plan meeting required by section 5.11(e) of the Commission's regulations, which is required to occur by October 11, 2020. Further revisions to the schedule may be made as appropriate.

Dated: May 29, 2020.
Kimberly D. Bose,
Secretary.

[FR Doc. 2020-12051 Filed 6-3-20; 8:45 am]

BILLING CODE 6717-01-P